DEPARTMENT OF ENERGY

Federal Energy Regulatory Commission

[Docket No. RP03-229-000]

Tennessee Gas Pipeline Company; Notice of Tariff Filing

January 14, 2003.

Take notice that on January 7, 2003, Tennessee Gas Pipeline Company (Tennessee), tendered for filing as part of its FERC Gas Tariff, Fifth Revised Volume No. 1, the following tariff sheets, with an effective date of March 1, 2003:

Fourth Revised Sheet No. 366.

Second Revised Sheet No. 366A.

Second Revised Sheet No. 366B.

Tennessee's filing requests that the Commission approve certain revisions to Tennessee's FERC Gas Tariff that would result in the subsidization of Tap Facilities construction costs being treated in a manner similar to the current subsidization of Connecting Facilities construction costs pursuant to Tennessee's tariff. Tennessee also proposes revisions intended to simplify the requirements for posting notice of such subsidies on Tennessee's PASSKEY system.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 21, 2003.

Magalie R. Salas,
Secretary.

[FR Doc. 03-1269 Filed 1-17-03; 8:45 am]

BILLING CODE 6717-01-P